DEPARTMENT OF TRANSPORTATION

Federal Aviation Administration

14 CFR Part 39

[Docket No. FAA-2011-0044; Directorate Identifier 2010-NM-059-AD; Amendment 39-17039; AD 2012-09-04]

RIN 2120-AA64

Airworthiness Directives; The Boeing Company Model 767-200, -300, -300F, and -400ER Series Airplanes

AGENCY: Federal Aviation Administration (FAA), DOT.

ACTION: Final rule.

SUMMARY: We are superseding an existing airworthiness directive (AD) that applies to The Boeing Company Model 767-200, -300, and -300F series airplanes. That AD currently requires inspections to detect cracking or corrosion of the fail-safe straps between the side fitting of the rear spar bulkhead at body station 955 and the skin; and follow-on and corrective actions. This new AD expands the applicability; and adds an inspection for cracking in the fail-safe strap, and repair or replacement if necessary. This AD was prompted by additional reports of cracks in 51 fail-safe straps on 41 airplanes; we have also received a report of a crack found in the “T” fitting that connects the fail-safe strap to the outboard edge of the pressure deck. We are issuing this AD to detect and correct fatigue cracking or corrosion of the fail-safe straps and the “T” fittings, which could result in cracking of adjacent structure and consequent reduced structural integrity of the fuselage.

DATES: This AD is effective June 11, 2012.

The Director of the Federal Register approved the incorporation by reference of certain publications listed in the AD as of June 11, 2012.

The Director of the Federal Register approved the incorporation by reference of certain other publications listed in this AD as of November 1, 2004 (69 FR 57636, September 27, 2004, as referenced in 70 FR 58000, October 5, 2005).

ADDRESSES: For service information identified in this AD, contact Boeing Commercial Airplanes, Attention: Data & Services Management, P.O. Box 3707, MC 2H-65, Seattle, Washington 98124-2207; telephone 206-544-5000, extension 1, fax 206-766-5680; email me.boecom@boeing.com; Internet https://www.myboeingfleet.com. You may review copies of the referenced service information at the FAA, Transport Airplane Directorate, 1601 Lind Avenue SW., Renton, Washington 98057-3356. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Berhane Alazar, Aerospace Engineer, Airframe Branch, ANM-120S, FAA, Seattle Aircraft Certification Office, 1601 Lind Avenue SW., Renton, Washington 98057-3356; phone: 425-917-6577; fax: 425-917-6590; email: berhane.alazar@faa.gov.

SUPPLEMENTARY INFORMATION:

Discussion

We issued a notice of proposed rulemaking (NPRM) to amend 14 CFR part 39 to supersede AD 2004-19-06 R1, amendment 39-14313 (70 FR 58000, October 5, 2005). That AD applies to The Boeing Company Model 767-200, -300, and -300F series airplanes. The NPRM published in the Federal Register on February 24, 2011 (76 FR 10288). That NPRM proposed to continue to require inspections to detect cracking or corrosion of the fail-safe straps between the side fitting of the rear spar bulkhead at body station 955 and the skin; and follow-on and corrective actions. That NPRM also proposed to expand the applicability, and add an inspection for cracking in the fail-safe strap, and repair or replacement if necessary.

Comments

We gave the public the opportunity to participate in developing this AD. The following presents the comments received on the proposal and the FAA's response to each comment.

Request To Add Airplanes to Applicability

Aviation Partners Boeing (APB) asked that we include airplanes in the NPRM (76 FR 10288, February 24, 2011) that have been modified with winglets, in accordance with Supplemental Type Certificate (STC) ST01920SE. APB stated that it completed an analysis of Boeing Alert Service Bulletin 767-53A0100, Revision 2, dated January 15, 2010, and determined that the defined rework limits are valid when winglets are installed. APB added that including these airplanes will reduce the effort to support requests for alternative methods of compliance (AMOCs) to the NPRM.

We acknowledge APB's request to include airplanes modified with winglets in accordance with the referenced STC in the applicability of this AD. We received an analysis package from APB which verifies that the compliance information included in Boeing Alert Service Bulletin 767-53A0100, Revision 2, dated January 15, 2010, is adequate to provide an acceptable level of safety for airplanes equipped with those winglets. Those airplanes are listed in the effectivity section of Revision 2 of this service bulletin, which is identified in the applicability section of this AD. We have not changed the AD in this regard. However, since the referenced STC does not affect accomplishment of the requirements of this AD, we have clarified that an AMOC is not necessary for these airplanes by adding this provision in new Note 1 to paragraph (c) of this AD. We have also reidentified subsequent notes.

Request To Change Supplementary Information Section of NPRM

Boeing noted that in the Supplementary Information section of the NPRM (76 FR 10288, February 24, 2011), there is an error under “Actions Since Existing AD Was Issued.” Boeing asked for a correction to the “flight cycles” data in the sentence “Fail-safe straps were repaired on 33 airplanes with total accumulated flight cycles ranging from 39,886 to 89,236.” Boeing stated that the correct flight cycles range is “9,250 to 38,490,” and the correct flight hours range is “39,886 to 89,236,” as published in Boeing Alert Service Bulletin 767-53A0100, Revision 2, dated January 15, 2010.

We agree with Boeing that there is an error in the number of flight cycles specified under “Actions Since Existing AD Was Issued;” the correct number of flight cycles was inadvertently omitted from the NPRM (76 FR 10288, February 24, 2011). However, since that section of the preamble does not reappear in the final rule, no change to the AD has been made in this regard.

Request To Change the Unsafe Condition

Boeing asked that we enhance the clarity of the unsafe condition that is given as the reason for issuing the NPRM (76 FR 10288, February 24, 2011) because the “T” fittings should not be included in the unsafe condition. Boeing noted that the proposed actions are for detecting and repairing corrosion or cracking of the fail-safe straps. Boeing added that inspections of the “T” fitting were added to Revision 2, dated January 15, 2010, of Boeing Alert Service Bulletin 767-53A0100, so that a removed/kept “T” fitting would be installed in a condition that contains no detectable damage around the three fastener holes that connect to the fail-safe strap. Boeing stated that the inspections are intended only to increase damage detection prior to installation of a kept “T” fitting.

We agree that emphasizing the fail-safe strap is the main issue in this AD; however, we do not agree that the unsafe condition should be changed to remove the reference to the “T” fittings. Some “T” fitting cracks have been reported since issuance of the existing AD, as noted in Boeing Alert Service Bulletin 767-53A0100, Revision 2, dated January 15, 2010; therefore, the “T” fitting is part of the unsafe condition. We have not changed this AD in this regard.

Request To Change Paragraph (k) of This AD

Continental Airlines (CAL) asked that we change paragraph (k) of the NPRM (76 FR 10288, February 24, 2011) to include contacting Boeing with corrosion damage details to obtain further repair instructions and/or approval. CAL stated that paragraph (k) of the NPRM requires that the corrosion on the fail-safe straps be repaired in accordance with the Accomplishment Instructions of Boeing Alert Service Bulletin 767-53A0100, Revision 2, dated January 15, 2010. CAL added that paragraph 3.B.7 of the Accomplishment Instructions specifies that if corrosion is found on the fail-safe straps, it should be removed as given in Chapter 51-10-02 of the Boeing 767 Structural Repair Manual (SRM). CAL noted that it did not find any information pertaining to the fail-safe straps when reviewing the SRM for the correct rework limits. CAL believes the corrosion removal instructions are incomplete.

We agree that corrosion removal instructions specified in Chapter 51-10-02 of the SRM do not specifically identify how to blend out corrosion on the fail-safe straps. That chapter contains general procedures for repairing corrosion (which apply to the fail-safe straps), which include inspection, repair, and rework limits but does not contain specific procedures for removing corrosion from fail-safe straps.

We have received Boeing Service Bulletin 767-53A0100, Revision 3, dated February 6, 2012. That revision removes the reference to the SRM in Step 3.B.7., and instead specifies to contact Boeing for repair instructions. Therefore we have revised paragraph (k) of this AD to specify that where Boeing Service Bulletin 767-53A0100, Revision 3, dated February 6, 2012, specifies to contact Boeing for repair, this AD requires repair using a method approved in accordance with paragraph (o) of this AD.

Boeing Service Bulletin 767-53A0100, Revision 3, dated February 6, 2012, also adds notes and revised steps to provide flexibility and revised figures to correct errors. These changes include revising a Standard Operating Practices Manual (SOPM) reference to specify SOPM 20-20-00, adding a fastener code to Figure 28 that was omitted, and revising cable identification labels in Figures 32 and 34. We have revised this AD to refer to Boeing Service Bulletin 767-53A0100, Revision 3, dated February 6, 2012, as the appropriate source of service information for accomplishing the required actions. We have added Boeing Alert Service Bulletin 767-53A0100, Revision 2, dated January 15, 2010, to paragraph (n) of this AD to give credit for doing actions before the effective date of this AD, using that revision.

Request To Change Certain References in the Service Information

CAL asked that certain references in Boeing Alert Service Bulletin 767-53A0100, Revision 2, dated January 15, 2010, be changed, as follows:

CAL stated that the use of the procedures in the Standard Wiring Practices Manual, Section 20-20-00, should be allowed for the resistance check of bonding fasteners during the panel installation. CAL stated that the standard operating manual reference specified in the resistance check of bonding fasteners during the panel installation does not provide the maximum resistance value.

CAL noted that Figure 28 of the Accomplishment Instructions of Boeing Alert Service Bulletin 767-53A0100, Revision 2, dated January 15, 2010, which identifies Fastener Code “B,” is missing from the top corner of the panel.

CAL also noted that the circle control numbers identified in Figures 32 and 34 of the Accomplishment Instructions of Boeing Alert Service Bulletin 767-53A0100, Revision 2, dated January 15, 2010, do not match the aileron control cables and work instructions. CAL stated that the control cable turnbuckle body station locations are reversed.

We acknowledge the commenter's concerns regarding the referenced figures and SOPM. The actions specified in the SOPM and those figures are only referred to in the service bulletin for optional guidance. As stated previously, Boeing Service Bulletin 767-53A0100, Revision 3, dated February 6, 2012, corrects these errors. We have made no change to the AD in this regard.

Explanation of Additional Changes Made to This AD

We have made the following changes to this AD:

• Revised certain headers throughout this AD.

• Redesignated Note 2 of the NPRM (76 FR 10288, February 24, 2011) as paragraph (g)(3) in this AD, and redesignated subsequent notes accordingly.

• Revised the heading for and wording of paragraph (n) of this AD; this change has not changed the intent of that paragraph.

Conclusion

We reviewed the relevant data, considered the comments received, and determined that air safety and the public interest require adopting the AD with the changes described previously—and minor editorial changes. We have determined that these minor changes:

• Are consistent with the intent that was proposed in the NPRM (76 FR 10288, February 24, 2011) for correcting the unsafe condition; and

• Do not add any additional burden upon the public than was already proposed in the NPRM (76 FR 10288, February 24, 2011).

We also determined that these changes will not increase the economic burden on any operator or increase the scope of the AD.

Costs of Compliance

We estimate that this AD will affect 390 airplanes of U.S. registry.

We estimate the following costs to comply with this AD:

Estimated Costs
Action | Labor cost | Parts cost | Cost per product | Cost on U.S. operators
Inspection for Model 767-200, -300, and -300F airplanes (retained actions from AD 2004-19-06 R1, Amendment 39-14313 (70 FR 58000, October 5, 2005)) | 2 work-hours × $85 per hour = $170 per inspection cycle | $0 | $170 per inspection cycle | $60,180 per inspection cycle.
New inspections for all airplanes (new action) | 2 work-hours × $85 per hour = $170 per inspection cycle | 0 | $170 per inspection cycle | $66,300 per inspection cycle.

We estimate the following costs to do any necessary repairs/replacements that would be required based on the results of the inspection. We have no way of determining the number of aircraft that might need these repairs/replacements:

On-Condition Costs
Action | Labor cost | Parts cost | Cost per product
Repair or replacement, Groups 1-7, 10, and 11 airplanes | 295 work-hours × $85 per hour = $25,075 | Between $9,054 and $15,837 | Between $34,129 and $40,912.
Repair or replacement, Groups 8 and 9 airplanes | 297 work hours × $85 per hour = $25,245 | Between $32,593 and $32,727 | Between $57,838 and $57,972.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2004-19-06 R1, Amendment 39-14313 (70 FR 58000, October 5, 2005), and adding the following new AD:

2012-09-04 The Boeing Company: Amendment 39-17039; Docket No. FAA-2011-0044; Directorate Identifier 2010-NM-059-AD.

(a) Effective Date

This AD is effective June 11, 2012.

(b) Affected ADs

This AD supersedes AD 2004-19-06 R1, Amendment 39-14313 (70 FR 58000, October 5, 2005).

(c) Applicability

This AD applies to Model 767-200, -300, -300F, and -400ER series airplanes, certificated in any category; as identified in Boeing Service Bulletin 767-53A0100, Revision 3, dated February 6, 2012.

Note 1 to paragraph (c) of this AD: Supplemental Type Certificate (STC) ST01920SE (http://rgl.faa.gov/Regulatory_and_Guidance_Library/rgstc.nsf/0/082838ee177dbf62862576a4005cdfc0/$FILE/ST01920SE.pdf) does not affect the ability to accomplish the actions required by this AD. Therefore, for airplanes on which STC ST01920SE is installed, a “change in product” alternative method of compliance (AMOC) approval request is not necessary to comply with the requirements of 14 CFR 39.17. For all other AMOC requests, the operator must request approval for an AMOC according to paragraph (o) of this AD.

(d) Subject

Joint Aircraft System Component (JASC)/Air Transport Association (ATA) of America Code 53, Fuselage.

(e) Unsafe Condition

This AD was prompted by additional reports of cracks in 51 fail-safe straps on 41 airplanes; we have also received a report of a crack found in the “T” fitting that connects the fail-safe strap to the outboard edge of the pressure deck. We are issuing this AD to detect and correct fatigue cracking or corrosion of the fail-safe straps and the “T” fittings, which could result in cracking of adjacent structure and consequent reduced structural integrity of the fuselage.

(f) Compliance

Comply with this AD within the compliance times specified, unless already done.

(g) Retained Inspections and Follow-on/Corrective Actions With New Service Information

These inspection requirements are retained from AD 2004-19-06 R1, Amendment 39-14313 (70 FR 58000, October 5, 2005). For Model 767-200, -300, and -300F series airplanes having line numbers 1 through 931 inclusive: Except as provided by paragraph (h) of this AD, prior to the accumulation of 15,000 total flight cycles, or within 3,000 flight cycles after November 1, 2004 (the effective date of AD 2004-19-06 R1, Amendment 39-14313, 70 FR 58000, October 5, 2005), whichever occurs later, perform a detailed inspection and eddy current inspection to detect cracking or corrosion of the fail-safe straps between the side fitting of the rear spar bulkhead at body station (BS) 955 and the skin, per Figure 2 of the Accomplishment Instructions of Boeing Alert Service Bulletin 767-53A0100, dated September 26, 2002; Boeing Alert Service Bulletin 767-53A0100, Revision 2, dated January 15, 2010; or Boeing Service Bulletin 767-53A0100, Revision 3, dated February 6, 2012. As of the effective date of this AD, use only Boeing Alert Service Bulletin 767-53A0100, Revision 3, dated February 6, 2012. Doing the inspections required by paragraph (i) of this AD terminates the requirements of this paragraph.

(1) If no crack or corrosion is found, repeat the inspections thereafter at intervals not to exceed 6,000 flight cycles or 36 months, whichever occurs first, until paragraph (i) of this AD is done.

(2) If any crack or corrosion is found, before further flight, repair per a method approved by the Manager, Seattle Aircraft Certification Office (ACO), FAA; or using a method approved in accordance with paragraph (o) of this AD.

(3) For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(h) Retained Inspections and Follow-on/Corrective Actions

These inspection requirements are retained from AD 2004-19-06 R1, Amendment 39-14313 (70 FR 58000, October 5, 2005). For airplanes identified in paragraph (g) of this AD on which the fail-safe strap has been replaced before November 1, 2004: Do the actions required by paragraph (g) of this AD within 12,000 flight cycles after accomplishing the replacement.

Note 2 to paragraph (h) of this AD: Steps 2 and 8 of the Work Instructions of Boeing Alert Service Bulletin 767-53A0100, dated September 26, 2002, refer incorrectly to Boeing 767 Airplane Maintenance Manual (AMM) 32-00-20 for guidance on opening the MLG doors; the correct reference is Boeing 767 AMM 32-00-15, which is referred to in steps 3 and 7 of the Work Instructions. Step 2 also should state “Open Main Landing Gear (MLG) doors” instead of “Open Main Landing Green (MLG) doors.”

(i) New Repetitive Detailed and Eddy Current Inspections

Prior to the accumulation of 15,000 total flight cycles, or within 3,000 flight cycles after the effective date of this AD, whichever occurs later: Perform detailed and eddy current inspections to detect cracking and/or corrosion of the fail-safe straps between the side fitting of the rear spar bulkhead at BS 955 and the skin, in accordance with the Accomplishment Instructions of Boeing Service Bulletin 767-53A0100, Revision 3, dated February 6, 2012. If no crack or corrosion is found, repeat the inspections thereafter at intervals not to exceed 6,000 flight cycles or 36 months, whichever occurs first. Accomplishing the actions required by this paragraph ends the requirements of paragraphs (g) and (g)(1) of this AD.

(j) New Repetitive Ultrasonic Inspections

Prior to the accumulation of 15,000 total flight cycles, or within 3,000 flight cycles after the effective date of this AD, whichever occurs later: Do an ultrasonic inspection of the fail-safe strap for cracking, and all applicable related investigative actions, in accordance with the Accomplishment Instructions of Boeing Service Bulletin 767-53A0100, Revision 3, dated February 6, 2012. Do all applicable related investigative actions before further flight. If no crack is found, repeat the inspection thereafter at intervals not to exceed 6,000 flight cycles or 36 months, whichever occurs first.

(k) New Corrective Actions

If any corrosion is found during any inspection required by paragraph (i) of this AD: Before further flight, repair the corrosion, in accordance with the Accomplishment Instructions of Boeing Service Bulletin 767-53A0100, Revision 3, dated February 6, 2012; except where Boeing Service Bulletin 767-53A0100, Revision 3, dated February 6, 2012, specifies to contact Boeing for repair, before further flight, repair using a method approved in accordance with paragraph (o) of this AD.

(l) New Corrective Actions

If any crack is found during any inspection required by paragraph (i) or (j) of this AD: Before further flight, repair in accordance with the Accomplishment Instructions of Boeing Service Bulletin 767-53A0100, Revision 3, dated February 6, 2012; except where Boeing Service Bulletin 767-53A0100, Revision 3, dated February 6, 2012, specifies to contact Boeing for appropriate action, before further flight, repair using a method approved in accordance with the procedures specified in paragraph (o) of this AD. Accomplishing the fail-safe strap trim repair in accordance with Boeing Service Bulletin 767-53A0100, Revision 3, dated February 6, 2012, ends the repetitive inspections required by paragraphs (i) and (j) of this AD only on the side of the airplane where the repair was done. Replacing the fail-safe strap with a replacement strap that has the revised edge configuration in accordance with Boeing Service Bulletin 767-53A0100, Revision 3, dated February 6, 2012, ends the repetitive inspections required by paragraphs (i) and (j) of this AD only on the side of the airplane where the replacement was done.

(m) New Post-Replacement Inspections

For any replacement strap that does not have a revised edge configuration, as specified in Boeing Service Bulletin 767-53A0100, Revision 3, dated February 6, 2012: Within 12,000 flight cycles after doing the replacement, accomplish the inspections required by paragraphs (i) and (j) of this AD. Repeat the inspections thereafter at intervals not to exceed 6,000 flight cycles or 36 months, whichever occurs first. Replacing the fail-safe strap with a replacement strap that has the revised edge configuration in accordance with Boeing Service Bulletin 767-53A0100, Revision 3, dated February 6, 2012, ends the repetitive inspections required by paragraphs (i) and (j) of this AD only on the side of the airplane where the replacement was done.

(n) New Credit for Previous Actions

This paragraph provides credit for actions required by paragraphs (g) through (m) of this AD, if those actions were performed before the effective date of this AD using Boeing Alert Service Bulletin 767-53A0100, Revision 1, dated August 11, 2006; or Boeing Alert Service Bulletin 767-53A0100, Revision 2, dated January 15, 2010.

(o) Alternative Methods of Compliance (AMOCs)

(1) The Manager, Seattle ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane and 14 CFR 25.571, Amendment 45, and the approval must specifically refer to this AD.

(4) AMOCs approved for AD 2004-19-06, Amendment 39-13800 (69 FR 57636, September 27, 2004); and AD 2004-19-06 R1, Amendment 39-14313 (70 FR 58000, October 5, 2005); are approved as AMOCs for paragraphs (g) and (h) of this AD, as applicable.

(p) Related Information

For more information about this AD, contact Berhane Alazar, Aerospace Engineer, Airframe Branch, ANM-120S, FAA, Seattle ACO, 1601 Lind Avenue SW., Renton, Washington 98057-3356; phone: (425) 917-6577; fax: (425) 917-6590; email: berhane.alazar@faa.gov.

(q) Material Incorporated by Reference

(1) You must use the following service information to do the actions required by this AD, unless the AD specifies otherwise. The Director of the Federal Register approved the incorporation by reference (IBR) under 5 U.S.C. 552(a) and 1 CFR part 51 of the following service information on the date specified.

(i) Boeing Service Bulletin 767-53A0100, Revision 3, dated February 6, 2012, approved for IBR June 11, 2012.

(ii) Boeing Alert Service Bulletin 767-53A0100, Revision 2, dated January 15, 2010, approved for IBR June 11, 2012.

(iii) Boeing Alert Service Bulletin 767-53A0100, dated September 26, 2002; approved for IBR November 1, 2004 (69 FR 57636, September 27, 2004, as referenced in 70 FR 58000, October 5, 2005).

(2) For service information identified in this AD, contact Boeing Commercial Airplanes, Attention: Data & Services Management, P.O. Box 3707, MC 2H-65, Seattle, Washington 98124-2207; telephone 206-544-5000, extension 1; fax 206-766-5680; email me.boecom@boeing.com; Internet https://www.myboeingfleet.com.

(3) You may review copies of the referenced service information at the FAA, Transport Airplane Directorate, 1601 Lind Avenue SW., Renton, Washington. For information on the availability of this material at the FAA, call 425-227-1221.

(4) You may also review copies of the service information that is incorporated by reference at the National Archives and Records Administration (NARA). For information on the availability of this material at NARA, call 202-741-6030, or go to: http://www.archives.gov/federal-register/cfr/ibr_locations.html.

Issued in Renton, Washington on April 23, 2012.
Michael Kaszycki,
Acting Manager, Transport Airplane Directorate, Aircraft Certification Service.

[FR Doc. 2012-10570 Filed 5-4-12; 8:45 am]

BILLING CODE 4910-13-P